DEPARTMENT OF THE INTERIOR

Bureau of Land Management

[IDI-14985]

Public Land Order No. 7804; Partial Revocation of a Secretarial Order Dated December 4, 1909; ID

AGENCY: Bureau of Land Management, Interior.

ACTION: Public Land Order.

SUMMARY: This order partially revokes a withdrawal created by a Secretarial Order insofar as it affects 78.69 acres of National Forest System land withdrawn on behalf of the Bureau of Reclamation for the Payette Boise Reclamation Project within the Boise National Forest. This order also opens the land to disposition under the Small Tracts Act.

DATES: Effective Date: November 26, 2012.

FOR FURTHER INFORMATION CONTACT: Laura Underhill, BLM Idaho State Office, 1387 S. Vinnell Way, Boise, Idaho 83709, 208-373-3866, or Mike Coffey, USDA Forest Service, Region 4, 1918 W. Commerce Ave., Boise, Idaho 83709, 208-384-3288. Persons who use a telecommunications device for the deaf (TDD) may call the Federal Information Relay Service (FIRS) at 1-800-877-8339 to reach either the Bureau of Land Management or U.S. Forest Service contacts during normal business hours. The FIRS is available 24 hours a day, 7 days a week, to leave a message or question with either of the above individuals. You will receive a reply during normal business hours.

SUPPLEMENTARY INFORMATION: The Bureau of Reclamation has determined that a portion of the withdrawal created by a Secretarial Order dated December 4, 1909, for the Payette Boise Reclamation Project within the Boise National Forest is no longer used for the purpose for which the land was withdrawn, and the partial revocation of the withdrawal is needed to facilitate a land conveyance under the Small Tracts Act to resolve an unintentional encroachent.

Order

By virtue of the authority vested in the Secretary of the Interior by Section 204 of the Federal Land Policy and Management Act of 1976, 43 U.S.C. 1714, it is ordered as follows:

1. The withdrawal created by a Secretarial Order dated December 4, 1909, which withdrew National Forest System lands from all forms of appropriation under the public land laws, including the United States mining laws, but not from leasing under the mineral leasing laws, and reserved the land for use by the Bureau of Reclamation for the Payette Boise Reclamation Project, is hereby partially revoked insofar as it affects the following described land:

Boise National Forest

Boise Meridian

T. 5 N., R. 8 E.,

Sec. 9, lots 1 and 2.

The area described contains 78.69 acres in Elmore County.

2. At 9:00 a.m. on November 26, 2012, the land described in Paragraph 1 shall be opened to disposition under the Small Tracts Act (16 U.S.C. 521c-521i), subject to valid existing rights, the provisions of existing withdrawals, other segregations of record, and the requirements of applicable law.

Dated: October 4, 2012.
Rhea S. Suh,
Assistant Secretary—Policy, Management and Budget.

[FR Doc. 2012-26352 Filed 10-25-12; 8:45 am]

BILLING CODE 3410-11-P